OFFICE OF NATIONAL DRUG CONTROL POLICY

Paperwork Reduction Act; Notice of Intent To Collect; Comment Request

AGENCY: Office of National Drug Control Policy (ONDCP).

ACTION: ONDCP provides opportunity for public comment concerning the collection of information to identify the State and local resources that support Student Drug Testing Programs in the nation's schools.

SUMMARY: This action proposes the collection of drug control information from State Educational Agencies regarding State and local support for the Student Drug Testing Programs.

SUPPLEMENTARY INFORMATION:

I. Background

The purpose of this survey is to gain a greater understanding of state and local level support for Student Drug Testing Programs. Currently, Federal support for SDT programs is available through discretionary grants and the Safe and Drug Free Schools State formula grant (Title IV). The information that is collected will be used to gain a greater understanding of state and local level support for Student Drug Testing (SDT) programs so as to better target scarce Federal resources.

Type of Collection: Survey of State Educational Directors.

Title of Information Collection: Federal Safe and Drug Free Schools State formula grant (Title IV) resources supporting Student Drug Testing Programs in the nation's schools.

Frequency: Annually by fiscal year.

Affected Public: Instrumentalities of state, local, and tribal educational entities.

Estimated Burden: Minimal since State Education Agencies have pre-established reporting relationships with Local Education Agencies. LEAs receiving funds under Title IV must report on the services and activities supported by these funds.

II. Special Issues for Comment

ONDCP especially invites comments on: (a) Whether the proposed collection is necessary for the proper performance of ONDCP functions, including whether the information has practical utility; (b) ways to enhance information quality, utility, and clarity; and (c) ways to ease the burden on respondents, including the use of automated collection techniques or other forms of information technology.

ADDRESSES: Address all comments in writing within 60 days to Michael Reles. Facsimile and e-mail are the more reliable means of communication. Mr. Reles facsimile number is (202) 395-5176, and his e-mail address is merles@ondcp.eop.gov. Mailing address is Executive Office of the President, Office of National Drug Control Policy, Washington, DC 20503. For further information, contact Mr. Reles at (202) 395-6608.

Signed at Washington, DC, on January 9, 2008.
Edward H. Jurith,
General Counsel.

[FR Doc. E8-452 Filed 1-11-08; 8:45 am]

BILLING CODE 3180-02-P